DEPARTMENT OF DEFENSE

Department of the Army; Army Corps of Engineers

Notice of Intent to Prepare an Environmental Impact Statement for the Sacramento-San Joaquin Delta Islands and Levees Feasibility Study

AGENCY: Department of the Army, U.S. Army Corps of Engineers; DoD.

ACTION: Notice of intent.

SUMMARY: The action being taken is the preparation of an environmental impact statement (EIS) for the Sacramento-San Joaquin Delta Islands and Levees Feasibility Study (Delta Study). The EIS will be prepared in accordance with the National Environmental Policy Act (NEPA). The U.S. Army Corps of Engineers (Corps) will serve as lead agency for compliance with NEPA. The Delta Study will evaluate alternatives to meet the study goals of restoring sustainable ecosystem functions and improving flood risk management in the Delta, Suisun Marsh, and adjacent areas.

DATES: Written comments regarding the scope of the environmental analysis should be received at (see ADDRESSES) by March 15, 2013.

ADDRESSES: Written comments concerning this study and requests to be included on the Delta Study mailing list should be submitted to U.S. Army Corps of Engineers, Sacramento District, Public Affairs Office, Attn: Delta Study Scoping, 1325 J Street, Sacramento, CA 95814.

FOR FURTHER INFORMATION CONTACT: The U.S. Army Corps of Engineers Public Affairs Office via telephone at (916) 557-7461, email at spk-pao@usace.army.mil, or regular mail at (see ADDRESSES).

SUPPLEMENTARY INFORMATION:

1. Proposed Action. The Corps is preparing an EIS to analyze the environmental impacts associated with alternatives for restoring sustainable ecosystem functions and improving flood risk management in the Delta, Suisun Marsh, and adjacent areas.

2. Alternatives. The EIS will evaluate alternatives for achieving the purpose and need of the proposed action. To be developed through the Corps plan formulation process, the alternatives analyzed may include various combinations of ecosystem restoration and flood risk management measures designed to meet the dual objectives of restored ecosystem functions and improved flood risk management. The array of potential measures and possible combinations into alternatives will be determined based in part on information received during the scoping process.

3. Scoping Process. a. Two public scoping meetings will be held to present an overview of the Delta Study and the EIS process, and to afford all interested parties with an opportunity to provide comments regarding the scope of analysis and potential alternatives. The first public scoping meeting will be held at the Old Sugar Mill 35265 Willow Ave, Clarksburg, California, on February 19, 2013, from 5:00-7:00 p.m. The study presentation is scheduled to begin at 5:30. The second public scoping meeting will be held at the Sheraton Grand Sacramento, 1230 J Street, Sacramento, California, on February 20, 2013, from 2:00-4:00 p.m. The study presentation is scheduled to begin at 2:30.

b. Potentially significant issues to be analyzed in the EIS include programmatic, project specific, and cumulative effects on aesthetics, agricultural resources, air quality, biological resources, cultural resources, geology and soils, hazards and hazardous materials, hydrology and water quality, land use and planning, noise, population and housing, public services, recreation, transportation and traffic, and utilities and service systems.

c. The Corps will consult with the State Historic Preservation Officer to comply with the National Historic Preservation Act of 1966, as amended and with the U.S. Fish and Wildlife Service and National Marine Fisheries Service to comply with the Endangered Species Act (16 U.S.C. 1536). The Corps will also coordinate with the U.S. Fish and Wildlife Service to comply with the Fish and Wildlife Coordination Act (16 U.S.C. sec 661). Other resource agencies will be consulted with as applicable.

d. A 45-day public review period will be provided for all interested parties individuals and agencies to review and comment on the draft EIS. All interested parties are encouraged to respond to this notice and provide a current address if they wish to be notified of the draft EIS circulation.

4. Availability. The draft EIS is currently scheduled to be available for public review and comment in early 2014.

Dated: January 23, 2013.
William J. Leady,
Professional Engineer, Colonel, U.S. Army, Commanding.

[FR Doc. 2013-02095 Filed 1-30-13; 8:45 am]

BILLING CODE 3720-58-P